DEPARTMENT OF EDUCATION

[Docket No.: ED-2017-ICCD-0045]

Agency Information Collection Activities; Comment Request; Impact Evaluation of Academic Language Intervention

AGENCY: Institute of Education Sciences (IES), Department of Education (ED).

ACTION: Notice.

SUMMARY: In accordance with the Paperwork Reduction Act of 1995, ED is proposing a new information collection.

DATES: Interested persons are invited to submit comments on or before May 30, 2017.

ADDRESSES: To access and review all the documents related to the information collection listed in this notice, please use http://www.regulations.gov by searching the Docket ID number ED-2017-ICCD-0045. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 224-84, Washington, DC 20202-4537.

FOR FURTHER INFORMATION CONTACT: For specific questions related to collection activities, please contact Tracy Rimdzius, 202-245-7283.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Impact Evaluation of Academic Language Intervention.

OMB Control Number: 1850-NEW.

Type of Review: A new information collection.

Respondents/Affected Public: State, Local, and Tribal Governments; Individuals or Households.

Total Estimated Number of Annual Responses: 546.

Total Estimated Number of Annual Burden Hours: 494.

Abstract: The purpose of the Impact Evaluation of Academic Language Intervention is to assess the impact of a promising academic language intervention on teachers' instructional practice and students' language and reading skills, with a particular focus on students who are English Learners (ELs) and disadvantaged non-EL students. Although prior studies of academic language instruction provide some initial evidence of the efficacy of instructional practices, confirmation of large-scale effectiveness is needed. This evaluation will contribute to the knowledge base of the instructional practices that improve language and literacy outcomes for these high need populations.

This submission covers data collection for the baseline period prior to implementing the selected academic language intervention, during the implementation year (the 2017-18 school year), and a follow-up year (spring 2019). The evaluation will examine the implementation and impact of an academic language program, using a random assignment design in which participating schools in each district are randomly assigned to a treatment group whose 4th and 5th grade teachers receive training and materials to implement the program or to a control group whose teachers do not. This submission covers the following data collection activities: Teacher surveys, teacher and student rosters, and school district records data.

Dated: March 28, 2017.
Kate Mullan,
Acting Director, Information Collection Clearance Division, Office of the Chief Privacy Officer, Office of Management.

[FR Doc. 2017-06367 Filed 3-30-17; 8:45 am]

BILLING CODE 4000-01-P